DEPARTMENT OF TRANSPORTATION

Federal Aviation Administration

14 CFR Part 61

[Docket No. FAA-2022-1463; Amdt. Nos. 61-153A]

RIN 2120-AL74

Airman Certification Standards and Practical Test Standards for Airmen; Incorporation by Reference; Correction

AGENCY: Federal Aviation Administration (FAA), U.S. Department of Transportation (DOT).

ACTION: Correcting amendment.

SUMMARY: On April 1, 2024, the Federal Aviation Administration (FAA) published a final rule in the Federal Register to incorporate certain Airman Certification Standards and Practical Test Standards by reference into the certification requirements for pilots, flight instructors, flight engineers, aircraft dispatchers, and parachute riggers. That final rule incorrectly set forth certain regulatory text that includes duplicative requirements. This correction remedies the error. This correction does not make any substantive revisions to the regulations.

DATES: Effective September 10, 2024.

FOR FURTHER INFORMATION CONTACT: James Ciccone, Training and Certification Group, Federal Aviation Administration, 800 Independence Avenue SW, Washington, DC 20591; telephone (202) 267-1100; email ACSPTSinquiries@faa.gov.

SUPPLEMENTARY INFORMATION: On April 1, 2024, the “Airman Certification Standards and Practical Test Standards for Airmen; Incorporation by Reference” final rule published in the Federal Register, effective on May 31, 2024.¹ That final rule adopted several amendments to parts 61, 63, and 65 of title 14 of the Code of Federal Regulations (14 CFR) by incorporating by reference (IBR) certain Airman Certification Standards (ACS) and Practical Test Standards (PTS), which serve as the testing standards for airman certificates and rating practical tests and proficiency checks. The final rule inadvertently and incorrectly set forth certain regulatory text in 14 CFR part 61 that the FAA did not intend to include. Specifically, the FAA adopted the requirement for instrument proficiency checks (IPC) under § 61.57(d) to consist of the areas of operation (AOO) contained in the applicable ACS, as appropriate to the rating held, intending to remove the list of AOOs set forth in § 61.57(d)(1)(i) through (vi).² As discussed in the final rule, the applicable ACS sets forth the AOOs to be included in the IPC with an accompanying task table in the appendix.

¹ 89 FR 22482, corrected at 89 FR 29252.

² The AOOs include: air traffic control clearances and procedures; flight by reference to instruments; navigation systems; instrument approach procedures; emergency operations; and postflight procedures.

The preamble to both the NPRM and the final rule clearly communicated that the final rule intended to remove § 61.57(d)(1)(i) through (vi) (i.e., the AOOs) because the ACS incorporated by reference would set forth the AOOs in the appendix task table.³ However, the amendatory instructions to the final rule inadvertently maintained § 61.57(d)(1)(i) through (vi), which duplicates the AOO tasking table in the applicable ACS, as incorporated by reference. This correction remedies that error by removing those paragraphs.

³ See 89 FR 22496, stating that the FAA simply proposed to remove the specific AOOs from the regulation itself and, instead, provide a table within the applicable ACS in the appendix with the specific AOOs and tasks to be tested. See also 87 FR 75963.

List of Subjects in 14 CFR Part 61

Aircraft, Airmen, Aviation safety, Recreation and recreation areas, Reporting and recordkeeping requirements, Security measures, Teachers.

Accordingly, 14 CFR part 61 is corrected by making the following correcting amendment:

PART 61—CERTIFICATION: PILOTS, FLIGHT INSTRUCTORS, AND GROUND INSTRUCTORS

1. The authority citation for part 61 continues to read as follows:

Authority: 49 U.S.C. 106(f), 106(g), 40113, 44701-44703, 44707, 44709-44711, 44729, 44903, 45102-45103, 45301-45302; Sec. 2307 Pub. L. 114-190, 130 Stat. 615 (49 U.S.C. 44703 note); and sec. 318, Pub. L. 115-254, 132 Stat. 3186 (49 U.S.C. 44703 note).

§ 61.57 [Amended]

2. Amend § 61.57 by removing paragraphs (d)(1)(i) through (vi).

Issued under authority provided by 49 U.S.C. 106(f), 44701(a), and 44703 in Washington, DC.

Brandon Roberts,
Executive Director, Office of Rulemaking.

[FR Doc. 2024-20216 Filed 9-9-24; 8:45 am]

BILLING CODE 4910-13-P